GENERAL SERVICES ADMINISTRATION

[Notice M1Y-2024-01; Docket No. 2024-0002; Sequence No.8]

Notice of the Federal Chief Information Officers Council Innovation Committee's Disruption and Discovery: AI, Data, and Quantum Symposium

AGENCY: General Services Administration, Office of Government-wide Policy, Office of Executive Councils, Federal Chief Information Officers (CIO) Council, Innovation Committee.

ACTION: Meeting notice.

SUMMARY: Join leaders across the federal government for an immersive one-day symposium exploring the technologies transforming our future. Through keynote addresses and fireside chats, gain insider perspectives from those using AI to combat and reduce fraud to those safeguarding our digital lives in the emerging quantum era and designing the future of data security across government. Learn about the technical breakthroughs employees at the National Labs are making to improve the lives of the American public. This symposium will spotlight the intersections of technology, innovation, and open government—shaping the digital tomorrow and harnessing the power of technology to drive mission impact. Join us at the frontier of what's next.

DATES: Tuesday, March 5, 2024 from 9:00 a.m. to 3:30 p.m. Eastern Standard Time.

ADDRESSES: GSA Headquarters, 1800 F St. NW, Washington, DC Jess Mellon Auditorium.

This is an in-person event. All attendees, including industry partners, must register for the event here: https://gsa.zoomgov.com/meeting/register/vJItduGsrjMjH5WV7BYKLsSQqKxMPZqEU5w.

Members of the press are invited to attend but are required to register with the GSA press office (via email press@gsa.gov) by Tuesday, February 27, 2024.

FOR FURTHER INFORMATION CONTACT: Ms. Ariel Crawford, Office of Government-wide Policy, at 301-653-7198 or ariel.crawford@gsa.gov.

SUPPLEMENTARY INFORMATION:

Background

Format

The Disruption and Discovery: AI, Data, and Quantum on the Symposium convenes leaders from the Federal Government to discuss their experiences with emerging technologies. The summit will include keynotes and Fireside Chats with featured speakers.

If you have questions for the panelists, you can email them to CIO Council Support at ciocouncil.support@gsa.gov by Tuesday, February 27, 2024.

Special Accommodations

American Sign Language (ASL) interpreters will be in attendance. If additional accommodations are needed, please indicate on the Zoom registration form.

Live Speakers (Subject to change without notice.)

Hosted by

• Federal CIO Council Innovation Committee

Agenda Topic Areas

• AI vs. Fraudsters: How New Technologies Are Tilting the Battle

• The Promise and Potential of Quantum Computing

• Data Management Is Critical to Making Zero Trust a Reality

• Pushing the Frontiers of Innovation: Research and Discovery at the National Labs

Ariel Crawford,
Senior Advisor, Federal Chief Information Officers (CIO) Council, Office of Government-wide Policy, General Services Administration.

[FR Doc. 2024-03329 Filed 2-16-24; 8:45 am]

BILLING CODE 6820-69-P